DEPARTMENT OF THE INTERIOR

National Park Service

Draft Environmental Impact Statement; Prisoners Harbor Coastal Wetland Restoration Project, Channel Islands National Park; Notice of Availability

SUMMARY: Pursuant to section 102(2)(C) of the National Environmental Policy Act of 1969 (Pub. L. 81-190 as amended), the National Park Service, Department of Interior, has prepared a Draft Environmental Impact Statement (EIS) for Prisoners Harbor Coastal Wetland Restoration. The Draft EIS evaluates alternative methods for ecological restoration and cultural resource protection. Appropriate mitigation measures are incorporated, and an “environmentally preferred” course of action is identified. The “action” alternatives are based upon information gained during public scoping, as well as park values, effective restoration strategies, National Park Service policy, and applicable laws.

Background: Prisoners Harbor and Canada del Puerto creek are located on the north side of Santa Cruz Island, Santa Barbara County, California. The project's area of potential effect encompasses the lower ¾ mile of Canada del Puerto extending to the 19-acre triangular shaped Prisoners Harbor area. This area includes a beach, cobble bar, lower stream channel and the Park's largest coastal floodplain wetland highly-valued archeological resources, historic resources associated with the island's ranching history, and stands of invasive eucalyptus trees along the riparian corridor in Canada del Puerto. Historically the Prisoners Harbor area has been extensively modified by direct filling of the coastal floodplain wetland, placement of a berm on the west bank of the associated Canada del Puerto creek, and introduction of the invasive fennel, eucalyptus, and kikuyu grass. Combined, these extensive modifications resulted in the loss of approximately 50%, or 3 acres, of wetland, altered channel hydraulics essentially disconnecting the creek from its floodplain wetland, and inadvertently directed the erosive power of flood flows toward highly-valued archeological resources and caused the loss of approximately 20 acres of southern oak riparian woodland. The purpose of the project is to restore a functional ecosystem including wetland and riparian components, protect archeological resources and the historic scale house, control invasive species, and provide a compatible visitor experience. Under current conditions the coastal wetland habitat is degraded and relegated to 3 acres. A berm created without engineering specifications in the 1960's inadvertently directs the erosive power of flood flows toward highly-valued archeological resources, and during high flows flood water breaches the creek at a low water crossing and threatens the historic warehouse and other park infrastructure. There is no on-site visitor interpretation signage in the project area. Channel Islands National Park has determined that certain restoration activities at the project site will improve the condition of resources and the visitor experience.

Range of Alternatives: This Draft EIS describes and analyzes one No Action Alternative and two Action Alternatives. The No Action Alternative (Alternative A) would continue current management practices. Alternatives B and C (action alternatives) contain a varying mix of four main components: (1) Ecological restoration, including removing fill and controlling invasive species; (2) restoring hydraulic function; (3) protecting sensitive archeological resources; and (4) improving the visitor experience. Each of the action alternatives incorporates the following elements: (1) Remove fill from the former wetland; (2) remove a section of berm along the west bank of Canada del Puerto creek; (3) remove cattle corrals; (4) relocate scale house to pre-1960's location; (5) construct a protective barrier around a highly-valued archeological site; (6) remove eucalyptus from the lower Canada del Puerto, (7) control other priority invasive species; and (7) improve the visitor experience of coastal wetlands, associated wildlife, and historic human uses.

Alternative B (agency-preferred) would restore 3.1 acres of palustrine wetlands and deepwater habitat by removing approximately 13,000 yds ³ 20% fill material, removing all cattle corrals, relocating the scale house out of the 100-year floodplain to its pre-1960s location adjacent to the warehouse, and removing 250 ft of berm thereby reconnecting the creek to its floodplain. Alternative B would protect highly valued archeological resources by constructing a protective barrier around a portion of the archeological site. Twenty acres of riparian woodland would be restored by removing 1700 eucalyptus trees and controlling invasive fennel and kikuyu grass in the riparian corridor. Alternative B would improve the visitor experience through the installation of interpretive signage and placement of benches in wildlife viewing areas.

Alternative C would restore 2.1 acres of palustrine wetlands and deepwater habitat by removing approximately 11,000 yds ³ 20% fill material, retaining two cattle corrals adjacent to the access road, removing 250 ft of berm thereby reconnecting the creek to its floodplain, and also would restore 20 acres of riparian woodland by removing 1700 eucalyptus trees and controlling invasive fennel and kikuyu grass in the riparian corridor. The scale house would remain in its current location within the 100-year floodplain. Alternative C would protect highly valued archeological resources by constructing a protective barrier around a portion of the archeological site. Finally, this alternative would improve the visitor experience through the placement of interpretive signage.

Scoping and Public Involvement: A site visit was held in April 2007 to solicit preliminary issues and concerns regarding the project concept. The agenda for the meeting included introductions, site orientation with an informal walking tour of the site, followed by a round-robin discussion with opportunity to ask questions and express concerns. A Notice of Intent (NOI) to prepare an EIS and conduct public scoping was published in the Federal Register on June 11, 2008. On June 12, 2008, a press release announcing public scoping was distributed to the Ventura County Star and the Santa Barbara News-Press, as well as 73 other media outlets, including newspapers, radio stations, and television stations. The press release explained the public scoping process, announced two public open houses, and provided the Web sites for Channel Islands National Park and NPS park planning. The NOI and press release were posted on the park Web site. Notices of the public scoping open houses were printed in the Ventura County Star and Santa Barbara News-Press on June 23, 2008. Approximately 240 public scoping announcements were distributed including details of date, time, and location of the public open houses. These outreach activities elicited pertinent information from interested individuals, agencies, and organizations, which aided the alternatives formulation and environmental impact analysis processes.

Comments: Copies of the Draft EIS will be sent to affected Federal, Tribal, State and local government agencies, to interested parties, and those requesting copies. Paper and digital copies (compact disc) of the document will also be available at park headquarters and at local libraries. The complete document will be posted on the Channel Islands National Park Web site (http://www.nps.gov/chis/) and on the NPS Planning, Environment and Public Comment Web site (http://parkplanning.nps.gov/chis). All written comments must be postmarked or transmitted no later than 60 days from the publication date of EPA's notice of filing in the Federal Register—immediately upon confirmation of this date, this information will be posted on the project Web sites and announced via regional and local press media.

Written comments may be submitted by letter sent to: Channel Islands National Park, Prisoners Harbor Coastal Wetland Restoration, 1901 Spinnaker Drive, Ventura, CA 93001 (or may be transmitted electronically at http://parkplanning.nps.gov/chis). Two public meetings will be held approximately 30 days after publication of this notice in the Federal Register. Questions regarding status of project planning may be directed to Paula Power (805) 658-5784 (or via e-mail paula_power@nps.gov). All comments are maintained in the administrative record and will be available for public review at Channel Islands National Park Headquarters. Before including your address, phone number, e-mail address, or other personal identifying information in your comment, you should be aware that your entire comment—including your personal identifying information—may be made publicly available at any time. While you can ask us in your comments to withhold your personal identifying information from public review, we cannot guarantee that we will be able to do so.

Decision Process: Following the analysis of all comments received concerning the Draft EIS, at this time it is anticipated that the Final EIS would be completed in the summer 2009. The availability of the final document will be similarly announced in the Federal Register, and also publicized via local and regional press media, direct mailings, and Web site postings. Not sooner than thirty days after the distribution of the Final EIS, a Record of Decision may be executed (at this time it is anticipated a recommended decision would be developed in fall 2009). As a delegated EIS the approving official responsible for the final decision is the Regional Director, Pacific West Region. Subsequently, the official responsible for implementing the approved wetland and restoration plan will be the Superintendent, Channel Islands National Park.

Dated: March 9, 2009.
Jonathan B. Jarvis,
Regional Director, Pacific West Region.

[FR Doc. E9-12725 Filed 6-2-09; 8:45 am]

BILLING CODE 4310-FY-M